ENVIRONMENTAL PROTECTION AGENCY

40 CFR Part 62

[OH153-1b; FRL-7386-8]

Approval and Promulgation of Implementation Plans; Ohio

AGENCY: Environmental Protection Agency (EPA).

ACTION: Proposed rule.

SUMMARY: The EPA is proposing to approve, through direct final procedure, a negative declaration submitted by the State of Ohio which indicates there is no need for regulations covering existing Small Municipal Waste Combustors (MWC) in the State. The State's negative declaration regarding this category of sources was submitted in a letter dated June 25, 2002, and was based on a systematic search of the State's internal data bases. The intent of the State's action is to satisfy a Federal requirement to develop a plan to control emissions from small MWCs or to declare there are no sources of this type in the State.

In the “Rules and Regulations” section of this Federal Register, EPA is approving the State's negative declaration request as a direct final rule without prior proposal because EPA views this action as noncontroversial and anticipates no adverse comments. The rationale for approval is set forth in the direct final rule. If EPA receives no written adverse comments, EPA will take no further action on this proposed rule. If EPA receives written adverse comment, we will publish a timely withdrawal of the direct final rule in the Federal Register and inform the public that the rule will not take effect. In that event, EPA will address all relevant public comments in a subsequent final rule based on this proposed rule. In either event, EPA will not institute a second comment period on this action. Any parties interested in commenting must do so at this time.

DATES: Comments on this action must be received by October 30, 2002.

ADDRESSES: Written comments should be mailed to: J. Elmer Bortzer, Chief, Regulation Development Section, Air Programs Branch (AR-18J), USEPA, Region 5, 77 West Jackson Boulevard, Chicago, Illinois 60604.

A copy of the State's negative declaration request is available for inspection at the above address.

FOR FURTHER INFORMATION CONTACT: John Paskevicz, Environmental Engineer, Regulation Development Section, Air Programs Branch (AR-18J), USEPA, Region 5, 77 West Jackson Boulevard, Chicago, Illinois 60604, (312) 886-6084.

SUPPLEMENTARY INFORMATION: Throughout this document whenever “we,” “us,” or “our” are used we mean the EPA.

I. What actions are EPA taking today?

II. Where can I find more information about this proposal and corresponding direct final rule?

I. What Actions Are EPA Taking Today?

The EPA is proposing to approve a negative declaration submitted by the State of Ohio which indicates there is no need for regulations to control emissions from small Minicipal Waste Combustors in the State. The State performed an analysis which shows that there are no small MWCs in Ohio.

II. Where Can I Find More Information About This Proposal and Corresponding Direct Final Rule?

For additional information see the direct final rule published in the rules section of this Federal Register.

Authority: 42 U.S.C. 4201 et seq.

Dated: September 18, 2002.
Steve Rothblatt,
Acting Regional Administrator, Region 5.

[FR Doc. 02-24768 Filed 9-27-02; 8:45 am]

BILLING CODE 6560-50-P